DEPARTMENT OF AGRICULTURE

Office of the Secretary

DEPARTMENT OF COMMERCE

National Oceanic and Atmospheric Administration

DEPARTMENT OF DEFENSE

Office of the Secretary

DEPARTMENT OF ENERGY

Office of the Secretary

DEPARTMENT OF THE INTERIOR

Office of the Secretary

ENVIRONMENTAL PROTECTION AGENCY

TENNESSEE VALLEY AUTHORITY

ARMY CORPS OF ENGINEERS

Unified Federal Policy for a Watershed Approach to Federal Land and Resource Management

AGENCIES: Office of the Secretary, USDA; National Oceanic and Atmospheric Administration, Commerce; Office of the Secretary, DOD; Office of the Secretary, Energy; Office of the Secretary, Interior; Office of the Administrator, EPA; Resource Stewardship, TVA; Office of the Assistant Secretary of the Army for Civil Works, COE.

ACTION: Notice of final policy.

SUMMARY: The Departments of Agriculture, Commerce, Defense, Energy and the Interior, the Environmental Protection Agency, the Tennessee Valley Authority, and the Army Corps of Engineers are adopting a unified Federal policy on watershed management. This policy, which provides a framework for a watershed approach to Federal land and resource management activities, is one of the action items in the President's Clean Water Action Plan: Restoring and Protecting America's Waters. The final policy has been revised in response to public comments on the proposed policy published in the Federal Register on February 22, 2000 (65 FR 8834).

DATES: This policy is effective October 18, 2000.

ADDRESSES: Copies of the final policy are available electronically from the Internet/World Wide Web at www.cleanwater.gov/ufp or by contacting USDA-Forest Service, Content Analysis Enterprise Team, Attn: UFP, Building 2, Suite 295, 5500 Amelia Earhart Drive, Salt Lake City, UT 84116; (801) 517-1037. Individuals who use a telecommunications device for the deaf (TDD) may call the Federal Information Relay Service at 1-800-877-8339.

FOR FURTHER INFORMATION CONTACT: Eric Janes, Rangelands, Soil and Water Group, Bureau of Land Management, Department of the Interior, (202) 452-7752, or Karen Solari, Watershed and Air Management Staff, Forest Service, Department of Agriculture, (202) 205-0879. Individuals who use a telecommunications device for the deaf (TDD) may call the Federal Information Relay Service at 1-800-877-8339.

SUPPLEMENTARY INFORMATION: The final unified Federal policy on watershed management set out at the end of this notice is intended to provide a framework to enhance watershed management for the protection of water quality and the health of aquatic ecosystems on Federal lands. This policy is one of the 111 action items in the President's February 1998 Clean Water Action Plan: Restoring and Protecting America's Waters.

Background

More than 800 million acres of the Nation's land are managed by Federal agencies. These public lands contain significant physical and biological resources and are important to millions of Americans for multiple uses, such as drinking water, irrigation, transportation, recreation, and wildlife habitat. Federal land managers are responsible for protecting and restoring these resources.

The objective of the Federal Water Pollution Control Act of 1972, as amended, which is commonly referred to as the Clean Water Act, is to “restore and maintain the chemical, physical and biological integrity of the Nation's waters.”

Although Federal agencies are working to implement the applicable requirements of the Clean Water Act, further progress is needed both to prevent degradation of high quality waters and sensitive aquatic ecosystems and to accelerate the restoration of degraded water resources. This policy provides a foundation to help ensure that Federal land and resource management activities meet these goals and that the Federal government serves as a model for water quality stewardship.

We believe that the unified watershed-based approach outlined in this policy provides a strong foundation for achieving these goals.

Though this policy is not intended to be a rule, the proposed policy was published for notice and public comment in the February 22, 2000, Federal Register (65 FR 8834). We also posted the policy on the World Wide Web at www.cleanwater.gov/ufp and mailed it to States, Tribes, environmental groups, and industry associations. We conducted eleven regional meetings; met with a number of organizations, such as the Western Governors' Association; and conducted meetings and conference calls with Tribal government representatives.

We received 248 responses from 126 organizations and 122 individuals on the proposed policy. Comments represented a diverse set of interests from across the country, including private citizens; State, Tribal and local governments; and industry and environmental groups. An interagency team reviewed and evaluated the comments and made changes to the policy based on these comments.

The majority of the commenters supported the overall goal of the policy to improve water quality on Federal lands through an emphasis on a watershed-based approach to land and resource management. Many commenters suggested language and content changes intended to improve the policy. The interagency review team identified six major questions or issue categories.

1. Do the participating agencies have the authority to develop and implement this policy?

2. How does the policy affect Tribal rights and interests?

3. What role will the States, Tribes, and local governments have in working with the Federal agencies to implement the policy?

4. What impacts will this policy have on the multiple uses of Federal lands?

5. How will the policy be implemented?

6. How will the public participate in implementing the policy?

The following section, Summary of Comments and Responses, includes a discussion of these issues and our response to the public comments. This section also describes all substantive changes made to the proposed policy based on the public comments and the Federal agencies' review of the policy. The text of the final policy is set out at the end of this notice.

Summary of Comments and Responses

1. Do the participating agencies have the authority to develop and implement this policy?

Comments: Some respondents asserted that the Clean Water Action Plan (CWAP) and the Unified Federal Policy (UFP) violate Congressional mandates regarding multiple use, sustained yield and planning procedures found in the Federal Land Policy and Management Act, 43 U.S.C. § 1701 et seq. (FLPMA), the Multiple Use and Sustained Yield Act, 16 U.S.C. § 531 et seq. (MUSYA), and the National Forest Management Act, 16 U.S.C. § 1600 et seq. (NFMA).

Response: As the agencies have explained in the CWAP itself, the CWAP is not a regulation and it does not establish a regulatory program. Rather, it is a call to action that “builds on the solid foundation of existing clean water programs” and seeks to “restore and protect water resources” within the framework of existing laws and regulations. Similarly, the UFP is intended to enhance the implementation of existing laws and improve coordination of Federal watershed management activities with States, Tribes, and interested stakeholders. In other words, nothing in the UFP (or the CWAP) directs agencies to violate any existing laws or regulations. For instance, the UFP calls upon agencies to enhance State, Tribal and public participation opportunities during the resource management decision-making process. However, any such enhancement must be fully consistent with resource management decision-making processes established by FLPMA and other applicable laws and their implementing regulations. As another example, the UFP asks agencies to employ collaborative decision-making processes that utilize scientific knowledge and understanding gained from watershed assessments to develop federal land management decisions. Again, any such collaboration would be structured and undertaken only in accordance with applicable laws such as FLPMA, MUSYA, and NFMA and their implementing regulations.

Comments: Some respondents commented that CWAP and, therefore, the UFP violate the Administrative Procedure Act (APA) and Intergovernmental Cooperation Act (ICA).

Response: Neither the CWAP nor the UFP is a regulation. Therefore, the formal requirements of APA applicable to the promulgation of government regulations do not apply. In contrast to a regulation, which would establish legally enforceable requirements, the UFP asserts goals and aspirations consistent with existing laws and regulations. The UFP does not identify or propose specific projects that would require consultation with local governments under the ICA. The Federal agencies have widely publicized the policy and encouraged public discussion and feedback in order to have the widest possible participation of the public, including States and Tribes, in energizing the agencies' efforts to restore America's waters. Thus, States and Tribes were invited to participate in the UFP's development by commenting on a “working draft” policy in June of 1999, eight months before publication of the proposed policy in February 22, 2000 Federal Register (65 FR 8334). Their comments were considered during the preparation of both the proposed and final policies.

Comments: Some respondents commented that the CWAP and, therefore, the UFP violate the National Environmental Policy Act (NEPA).

Response: The CWAP and the UFP provide a framework for energizing the agencies' efforts to restore the nation's waters pursuant to existing laws and regulations. As such, the CWAP and the UFP are broad policy statements that speak in general concepts and principles, do not establish or alter existing agency programs, and are not defined to the point that they can be meaningfully analyzed. The agencies will fully comply with NEPA and other applicable laws at the appropriate time, such as when the UFP's policies are used to develop proposals for specific policies, programs, or projects. In other words, the Federal agencies fully intend to comply with NEPA at the appropriate time for all actions that require such compliance.

Comments: Some respondents asserted that the CWAP and, therefore, the UFP violate the Fifth Amendment's prohibition on the taking of private property.

Response: Nothing in either the CWAP or the UFP deprives anyone of individual property rights or would deny any owner of property the economic use of that property. The CWAP and the UFP do not require, authorize, or even suggest the taking of private property by any governmental agency for any purpose. The UFP, by its terms, creates no enforceable rights. The UFP applies only to Federal land and resources, not to private property. The UFP does not prohibit or restrict any activity on private property.

Comments: Some respondents asserted that the CWAP and, therefore, the UFP violate the Regulatory Flexibility Act (RFA) because the effect of the CWAP for any significant impact on small entities and businesses was not analyzed.

Response: Because neither the CWAP nor the UFP is a regulation, the RFA does not apply to them. The RFA is triggered only “[w]henever an agency is required * * * to publish general notice of proposed rulemaking for any proposed rule * * *” 5 U.S.C. 603(a). The CWAP and the UFP are policies, not rules, and therefore are not subject to RFA.

Comments: Several respondents questioned whether the authority exists for some of the activities in the policy; specifically, the authority to conduct watershed assessments and to apply special designations.

Response: Federal agencies have a variety of authorities to conduct watershed assessments and apply special designations. For example, in Public Law 94-579 (October 21, 1976), the Federal Land Policy and Management Act of 1976, Title II—Land Use Planning, Inventory and Identification, Section 201(a), Congress directed that the Secretary of the Interior “shall prepare and maintain on a continuing basis an inventory of all public lands and their resource and other values.” In Title II, Section 202(c)(3), Congress directed the Secretary of the Interior to “give priority to the designation and protection of areas of critical environmental concern.” In the National Forest Management Act of 1976 (16 U.S.C. 1602), Section 5—Program Recommendations, Congress directed the Secretary of Agriculture to “recognize the fundamental need to protect and where appropriate, improve the quality of soil, water, and air resources.” Each agency has additional authorities to inventory resource conditions and prepare management plans to prevent natural resource degradation and to restore degraded areas. In order to clarify our intent, the final policy has been amended to include the phrase “using existing legal authorities” in Section II.B.2, which addresses special designations.

Comments: Several respondents commented on the protection of existing water rights. The agencies adopting this policy acknowledge the authority granted to Tribes and States regarding water rights.

Response: In order to clarify our intent, the introduction section of the final policy has been amended to affirm our intent not to affect water rights with the addition of the following language: “The policy applies only to Federal lands and resources and does not affect water rights laws, procedures, or regulations.” In the notice of the proposed policy published in the Federal Register on February 22, 2000 (65 FR 8834), we also stated our intent by publishing the following statement in the preamble: “* * * nothing in the proposed policy is intended to adjudicate, determine, or otherwise affect water rights. The proposed policy does not affect currently applicable laws, procedures, or regulations creating or determining water rights.”

2. How does the policy affect Tribal rights and interests?

Comments: Several comments concerned tribal rights and interests.

Response: The final policy acknowledges the Federal policy of the government-to-government relationship between the United States and Tribes by expressly including Tribes as governmental partners in meeting the goals and objectives of this unified Federal policy on watershed management. The policy recognizes Tribal government authorities under the Clean Water Act and includes Tribes in all of the collaboration efforts addressed by the policy. The policy also has the flexibility to take into account indigenous knowledge when developing, selecting and implementing management actions.

3. What role will States, Tribes, and local governments have in working with Federal agencies to implement the policy?

Comments: A few respondents suggested we clarify the roles of the Federal agencies, States, and Tribes.

Response: In the preamble to the proposed policy, we recognized that Tribes and States have overall responsibility for managing waters under their jurisdiction. This recognition has been added to the introduction of the final policy. In addition, Section II.D.2 of the final policy states that we will develop formal agreements with States, Tribes, and local governments as appropriate to clarify responsibilities for watershed management.

Comments: Some respondents questioned the need for additional watershed assessments on Federally managed lands and requested clarification on the scope and scale of these assessments.

Response: The purpose of watershed assessment is to gain an understanding of the physical and biological processes that govern the flow, quality, and timing of water. It is our intent that watershed assessments will result in information that will become part of the basis for identifying management opportunities and priorities and for developing alternatives to protect or restore watersheds. We have included an outline in Section II.A.1.a of the final policy for the development of a consistent watershed assessment procedure. Although the agencies' field offices will have flexibility on the scale, watershed assessments generally will be at the 5th level Hydrologic Unit Code (HUC) (40,000 to 250,000 acres) or 6th level HUC (10,000 to 40,000 acres).

Comments: A few respondents questioned whether the watershed assessments on Federally managed lands duplicate actions that the Tribes and States are required to conduct under the Clean Water Act.

Response: The Federal watershed assessments will supplement the Tribal and State assessments. In general, the Federal assessments will be more detailed (for example, we will analyze the cause of watershed problems and the potential for recovery) and will be at a smaller scale. We will use the results of these assessments to work with the Tribes and States in efforts to protect or improve water quality in watersheds that include Federal lands.

Comments: Several respondents emphasized that Federal watershed protection and restoration efforts must be coordinated with Tribal, State, and local efforts.

Response: The policy is intended to provide a framework for enhanced collaboration among the Federal agencies, States, Tribes, private landowners, and stakeholders. While the policy applies only to Federally managed lands, we recognize that collaboration is essential to successful watershed protection and restoration. The Federal agencies within a watershed are committed to working together and with States, Tribes, local governments, interested stakeholders, and private landowners to assess, prioritize, and focus funding and personnel for protection and restoration action in priority watersheds. The policy is broad to allow field level offices the flexibility to consider local conditions and the good work already underway. Through close coordination outlined in the policy, we believe work on Federal lands will complement actions taken by States, Tribes, and local communities.

4. What impacts will this policy have on the multiple uses of Federal lands?

Comments: Some respondents expressed concern that the policy might interfere with current multiple use management activities, while other respondents suggested that the policy be strengthened to help ensure that Federal land management activities would not further degrade water quality.

Response: Federal laws governing Federal land management already strike a balance between local and national interests in meeting multiple use mandates, preventing natural resource degradation, and preserving resource viability. This policy is intended to provide a consistent approach to managing Federal lands and resources in accordance with applicable laws governing Federal land use management and water quality.

5. How will the policy be implemented?

Comments: Several respondents commented on the need for specific implementation information; in particular, when and how the actions are to be accomplished and how ongoing efforts by Tribes, States, and local communities will be impacted by the policy.

Response: With the adoption of the final policy, the agencies will work in close coordination with State, Tribal, and local government agencies; private landowners; and stakeholders to develop implementation plans that will incorporate the goals of the policy, build on current efforts, and will recognize work already being accomplished by Tribes, States, and local communities.

Comments: A few respondents questioned whether funding to implement the policy is available.

Response: We recognize that the implementation will vary among the agencies, based in part on existing budget allocations. We also anticipate that implementation of this policy will help to encourage Federal land and resource management agencies to pool funds to focus on priority efforts. Finally, we recognize that additional funding could accelerate implementation of this policy.

6. How will the public participate in implementing the policy?

Comments: Several respondents wanted to know how the public would be involved in policy implementation.

Response: One of the six guiding principles of the final policy (Section I.A-F) is to work closely with States, Tribes, local governments, private landowners, and stakeholders to implement this policy (Section I.D). The policy provides for two types of public participation: (1) Opportunities to review and comment throughout Federal planning processes, and (2) Opportunities to assist in on-the-ground work (Section II.D). In general, the agencies' field offices will be responsible for working with States, Tribes, local governments, private landowners, and stakeholders to provide opportunities for input, at a minimum, in the following areas:

• Assessing the effects of our current and past actions on the condition of watersheds with significant Federal lands and resources (Section II.A.2.a).

• Identifying specific watersheds with significant Federal lands and resources as priorities for protection, management, and improvement (Section II.B.1).

• Improving watershed conditions through restoration and adaptive management (Section II.B.4).

Comments: Two respondents expressed concern that private landowners were not mentioned until the end of the policy.

Response: We recognize that private landowners play a very important role in implementing a watershed approach. The term “stakeholder” is intended to include private landowners. In addition, the term “private landowners” was added in several sections of the final policy to clarify the intent of the policy to recognize their role and include them in many steps to achieve watershed management.

Dated: September 20, 2000.
For the Department of Agriculture.
James R. Lyons,
Under Secretary, Natural Resources and Environment.
Dated: October 2, 2000.
For the Department of Commerce, National Oceanic and Atmospheric Administration.
D. James Baker,
Under Secretary for Oceans and Atmosphere.
Dated: September 28, 2000.
For the Department of Defense.
Patricia L. Toppings,
Alternate OSD Federal Register Liaison Officer, Department of Defense.
Dated: September 22, 2000.
For the Department of Energy.
David Michaels,
Assistant Secretary, Environment, Safety and Health. 9
Dated: September 7, 2000.
For the Department of the Interior.
Sylvia V. Baca,
Assistant Secretary for Land and Minerals Management.
August 29, 2999.
For the Environmental Protection Agency.
J. Charles Fox,
Assistant Administrator for Water.
Dated: September 1, 2000.
For the Tennessee Valley Authority.
Ruben O. Hernandez,
Vice President, Resource Stewardship.
Dated: September 14, 2000.
For the Army Corps of Engineers.
Joseph W. Westphal,
Assistant Secretary of the Army (Civil Works).

Unified Federal Policy for a Watershed Approach to Federal Land and Resource Management

Introduction

Federal agencies manage large amounts of public lands throughout the country. To protect water quality and aquatic ecosystems on these public lands, Federal agencies have developed the following policy to reduce water pollution from Federal activities and foster a unified, watershed-based approach to Federal land and resource management. This policy is intended to accelerate Federal progress towards achieving the goals of the Clean Water Act (Federal Water Pollution Control Act of 1972, 33 U.S.C. 1251 et seq.). This policy applies only to Federal lands and resources and does not affect water rights laws, procedures, or regulations. This policy does not supersede or otherwise affect existing State or Tribal authority under the Clean Water Act. The Federal agencies also acknowledge that, in international waters, the watershed approach is subject to the international treaties and agreements affecting those waters.

I. Policy Goals

We, the Federal agencies who have signed this policy, are committed to managing the Federal lands, resources, and facilities in our care as models of good stewardship and effective watershed management.

We recognize that State, Tribal, and local programs for watershed protection and improvement are currently underway and producing positive results. We also recognize the success of locally led, voluntary, watershed groups in planning and implementing water quality improvement actions. This policy seeks to build upon those existing efforts and expand cooperation among Federal, Tribal, State and local partners. This policy will enhance these programs by improving consistency among Federal agency watershed protection programs. We acknowledge that those Federal agencies without established programs will face an additional challenge to implement this policy and that the pace and level of implementation will vary by agency.

The following policy has two goals: (1) Use a watershed approach to prevent and reduce pollution of surface and ground waters resulting from Federal land and resource management activities; and (2) Accomplish this in a unified and cost-effective manner.

To develop a unified Federal policy that meets these two goals, we incorporated the following guiding principles:

A. Use a consistent and scientific approach to manage Federal lands and resources and to assess, protect, and restore watersheds.

B. Identify specific watersheds in which to focus our funding and personnel and accelerate improvements in water quality, aquatic habitat, and watershed conditions.

C. Use the results of watershed assessments to guide planning and management activities in accordance with applicable authorities and procedures.

D. Work closely with States, Tribes, local governments, private landowners, and stakeholders to implement this policy.

E. Meet our Clean Water Act responsibility to comply with applicable Federal, State, Tribal, interstate, and local water quality requirements to the same extent as non-governmental entities.

F. Take steps to help ensure that Federal land and resource management actions are consistent with applicable Federal, State, Tribal, and local government water quality management programs.

II. Agency Objectives

To accomplish these policy goals, we propose to use existing funding, personnel, and authorities to pursue the following objectives. All agencies will implement this policy as individual agency laws, missions, funding, and fiscal and budgetary authorities permit.

A. We will develop a science-based approach to watershed assessment for Federal lands. Watershed assessment information will become part of the basis for identifying management opportunities and priorities and for developing alternatives to protect or restore watersheds.

1. We will develop consistent procedures for delineating, assessing, and classifying watersheds.

a. We will work together to define and implement interagency guidelines for the delineation of watershed (5th level) hydrologic unit code boundaries.

b. Building on current efforts, we will develop and test watershed assessment procedures in watersheds that have been delineated using the interagency guidelines. The watershed assessment procedures will outline a process to:

(1) Focus on the analysis of factors that most directly influence changes in the condition of the specific watershed of interest (for example, meteorology, surface and ground water, soils, geology, vegetation, topography, channel geometry factors, and natural and human disturbances).

(2) Determine existing conditions and reference conditions.

(3) Identify the significance and the causes of the differences between existing and reference conditions for the watershed and the potential for recovery.

c. We will develop a framework for consistent classification of the condition of watersheds with significant Federal lands and resources. The framework will use the results of the watershed assessments.

2. We will conduct assessments of watersheds that have significant Federal lands and resources.

a. We will assess the affects of our current and past actions on the condition of watersheds with significant Federal lands and resources in cooperation with States, Tribes, local governments, private landowners, and interested stakeholders, using the procedures developed in Section II.A.1.b and recognizing current agreements.

b. We will develop schedules for assessments and identify necessary funding and personnel.

c. We will conduct assessments in priority watersheds on a 10-year cycle, or on a periodic cycle that better demonstrates changes in a particular watershed's condition over time. We will conduct assessments in other watersheds on a planned, periodic cycle.

d. We will use watershed assessments, where available, to improve management of Federal lands and resources. We will provide the results of assessments to States, Tribes, and local governments and use these assessments to assist States, Tribes, and local governments in protecting and restoring watersheds designated as priorities by State and Tribal Unified Watershed Assessments, Source Water Assessments or other assessments.

B. We will use a watershed management approach when protecting and restoring watersheds.

1. We will work collaboratively to identify priority watersheds.

a. We will work with States, Tribes, local governments, private landowners, and interested stakeholders to identify specific watersheds with significant Federal lands and resources as priorities for protection, management, and improvement.

b. We will identify priority watersheds based on factors that include:

(1) The percentage of the watershed under Federal management;

(2) Issues the Federal agencies identify, including possible adverse effects on surface and ground water quality;

(3) Magnitude of water quality impairment, impacts to aquatic resources, and/or changes to flow regime;

(4) State and Tribal Unified Watershed Assessments and Source Water Assessments;

(5) Vulnerability of the watershed to degradation; and

(6) Substantive public interest.

2. Using existing legal authorities, we will develop a process and guidelines for identifying and designating waters or watersheds on Federal lands that may have significant human health, public use, or aquatic ecosystem values and a need for special protection.

3. We will implement pollution prevention and controls, consistent with applicable legal authorities.

a. We will address nonpoint and point source pollution from Federal land management activities, protect or improve water quality, and meet applicable State and Tribal water quality requirements under the Clean Water Act.

b. We will work with States, Tribes, and local governments to address nonpoint sources of pollution by:

(1) Identifying best management practices (BMPs) and management strategies that meet applicable Federal, State, and Tribal water quality requirements;

(2) Adjusting BMPs when monitoring reveals that they do not adequately protect water quality; and

(3) Mitigating impacts when implementation of BMPs results in unexpected adverse water quality impacts.

4. We will improve watershed conditions through restoration and adaptive management. We will strive to work with States, Tribes, local governments, private landowners, and interested stakeholders to improve the condition of priority watersheds. Changes in management strategies and restoration efforts will focus on watersheds where Federal land and resource management activities can meaningfully influence surface and ground water quality and aquatic resources.

5. We will base watershed management on scientific principles and methods. We will use scientific information from research and management experience in designing and implementing watershed planning and management programs, and setting management goals (e.g., desired conditions). To expand current knowledge, we will collaborate to identify research needs and contribute to or sponsor research, as appropriate.

6. We will identify and incorporate watershed management goals into our planning, programs, and actions. We will periodically review and amend, as appropriate, policies and management plans for Federal lands and resources to meet goals for watershed protection and improvement. We will incorporate adaptive management principles into our programs. Our watershed goals will seek to minimize adverse water quality impacts due to ongoing and future management programs, minimize impairment of current or future uses, and restore watersheds where applicable State and Tribal water quality requirements under the Clean Water Act are not achieved due to activities occurring on Federal lands.

7. We will help Tribes and States develop science-based total maximum daily loads (TMDLs). We will assist and support State and Tribal efforts to develop and implement TMDLs in watersheds with significant Federal land and resource management activities. We will provide technical assistance, tools, and expertise. We will use TMDL results in watershed planning and subsequent resource management activities to meet applicable State and Tribal water quality requirements under the Clean Water Act.

C. We will improve our compliance with water quality requirements under the Clean Water Act.

1. We will review agency policies to improve compliance with water quality requirements. We will identify and review our rules, policies, and procedures that affect water quality or watershed conditions for compliance under the Clean Water Act with applicable Federal, State, Tribal, interstate, and local requirements for preventing and controlling water pollution.

2. We will integrate water quality standards and watershed management goals. We will work collaboratively to clarify relationships under the Clean Water Act among BMPs, TMDLs, and State and Tribal water quality standards to achieve the following goals:

a. Better coordination of watershed goals and objectives;

b. Better sharing of scientific and technical data, equipment, and expertise;

c. Better support to the State/Tribal triennial reviews so that they reflect the importance of natural background loadings;

d. Better implementation mechanisms for meeting standards under the Clean Water Act, including practical interim measures where standards are not immediately achievable; and

e. Consistent treatment of Federal and non-Federal entities.

3. We will review our policies and processes that may affect land and water uses and water quality. In cooperation with Tribes and States, we will review our policies and processes for land and water uses that may affect water quality and watershed condition. We will consider revising these policies or processes, as appropriate, to ensure that they address watershed protection, improvement, monitoring, and water quality compliance.

D. We will enhance collaboration.

1. We will improve cooperation among Federal agencies. We will address water quality and aquatic ecosystem issues for watersheds at the national, regional, and field levels.

2. We will improve cooperation with States, Tribes, and local governments. We will develop formal agreements as appropriate with States, Tribes, and local governments to clarify responsibilities for watershed management. These agreements will seek a watershed-based approach for preventing or reducing pollution from point and nonpoint sources.

3. We will expand opportunities for participation by interested stakeholders. We will seek participation by interested stakeholders in watershed planning and management decisions using available mechanisms in existing planning processes. We will:

a. Identify specific opportunities for review and comment by interested stakeholders during Federal land and watershed planning efforts;

b. Provide opportunities for interested stakeholders to participate in monitoring and assessing watershed conditions and in implementing watershed restoration projects; and

c. Seek early feedback on key decisions affecting watershed management and carefully consider this feedback in agency decision-making.

4. We will expand opportunities for dialogue with private landowners. In priority watersheds with a mix of Federal and private lands, we will work with private sector landholders to involve them in the watershed management process. We will work closely to help ensure that Federally funded projects involving private cost-share partners fully consider watershed management objectives for both public and private lands.

5. We will coordinate monitoring. We will develop and implement a coordinated monitoring and evaluation approach and will monitor water quality trends and our management activities to determine whether progress is being made in protecting and improving water quality.

6. We will share training, information, and technical expertise. To promote collaboration and consistency in watershed management practices, we will continue, expand, develop, implement, and make available joint training programs; share information and technical expertise; transfer technologies for watershed management; and develop a consistent way to organize and present information and make it more accessible.

This policy does not create any right or benefit, or trust responsibility, substantive or procedural, enforceable by a party against the United States, its agencies or instrumentalities, its officers or employees, or any other person. This policy does not alter or amend any requirement under statute, regulation, or Executive Order.

Dated: September 20, 2000.
For the Department of Agriculture.
James R. Lyons,
Natural Resources and Environment.
Dated: October 2, 2000.
For the Department of Commerce, National Oceanic and Atmospheric Administration.
D. James Baker,
Under Secretary for Oceans and Atmosphere.
Dated: September 28, 2000.
For the Department of Defense.
Sherri W. Goodman,
Deputy Under Secretary of Defense (Environmental Security).
Dated: September 22, 2000.
For the Department of Energy.
David Michaels,
Assistant Secretary, Environment, Safety and Health.
Dated: September 7, 2000.
For the Department of the Interior.
Sylvia V. Baca,
Assistant Secretary for Land and Minerals Management.
Dated: August 29, 2000.
For the Environmental Protection Agency.
J. Charles Fox,
Assistant Administrator for Water.
Dated: September 1, 2000.
For the Tennessee Valley Authority.
Ruben O. Hernandez,
Vice President, Resource Stewardship.
Dated: September 14, 2000.
For the Army Corps of Engineers.
Joseph W. Westphal,
Assistant Secretary of the Army (Civil Works).

Glossary of Terms

These definitions are intended only to help you understand the policy better, and do not change the meanings of terms defined by law or regulation. If we define a term in the policy that is not defined elsewhere by law or regulation, you should not consider any such definition to have the effect of a law or regulation. Also, if we use a definition in this policy that is subsequently found to conflict with current laws or regulations, the current laws or regulations would apply. For example, “best management practices” and “total maximum daily load” are defined in the Environmental Protection Agency's regulations at 40 CFR 122.2 and 40 CFR 130.2(i), respectively.

Adaptive management: A type of natural resource management in which decisions are made as part of an ongoing science-based process. Adaptive management involves testing, monitoring, and evaluating applied strategies, and incorporating new knowledge into management approaches that are based on scientific findings and the needs of society. Results are used to modify management policy, strategies, and practices.

Best management practices (BMPs): Methods, measures, or practices to prevent or reduce water pollution, including, but not limited to:

1. Structural and nonstructural controls,

2. Operation and maintenance procedures, and

3. Other requirements and scheduling and distribution of activities.

Usually BMPs are applied as a system of practices rather than a single practice. BMPs are selected on the basis of site-specific conditions that reflect natural background conditions and political, social, economic, and technical feasibility.

Consistent: Conforming to the same principles or course of action.

Hydrologic unit: A national standard system of watersheds that are classified into four types of units: regions, sub-regions, accounting units, and cataloging units. The hydrologic units are arranged within each other, from the smallest (cataloging units or sub-basin) to the largest (regions). Each hydrologic unit is identified by a unique hydrologic unit code (HUC) consisting of two to eight digits based on the four levels of classification in the hydrologic unit system. A standardized fifth-level of classification or 10-digit hydrologic unit (watershed) has recently been developed. Locally, a non-standard sixth-level sub-watershed also may have been developed.

Priority watersheds: Watersheds selected for the focusing of Federal funds and personnel for the purpose of accelerating improvements in water quality and watershed condition.

Reference condition: The range of factors (for example, meteorology, surface and ground water, soils, geology, vegetation, topography, channel geometry factors, and natural and human disturbances) that is representative of the watershed's recent historical values prior to significant alteration of its environment. The reference could represent conditions found in a relic site or a site having had little significant disturbance. The reference condition does not necessarily represent conditions that are attainable. The purpose of references is to establish a basis for comparing what currently exists to what has existed in recent history. References can be obtained through actual data, such as paired watersheds or well-managed watersheds, or through extrapolated techniques, such as modeling.

Resources: The biological and physical characteristics for which Federal agencies have management and stewardship responsibility; for example, air, soil, water, fish, wildlife, vegetation, and minerals.

Total maximum daily load: An estimate of the total quantity of pollutants (from all sources—point, nonpoint, and natural) that may be allowed into waters without exceeding applicable water quality standards.

Unified Watershed Assessment: The Clean Water Action Plan asked Tribes and States to assess their watersheds and identify all watersheds as being in one of four categories:

1. Not meeting, or facing an imminent threat of not meeting, clean water or other natural resource goals;

2. Meeting goals but needing action to sustain water quality;

3. Having pristine/sensitive aquatic system conditions on Federal, State, or Tribal lands; or

4. Needing more information to assess watershed condition.

Source Water Assessment: A process, required by the Safe Drinking Water Act, whereby the State or designated Tribe or agency, identifies the areas that provide surface and ground water to public drinking water systems; inventories existing contaminants; and determines vulnerability of the system to contamination.

Watershed: A geographic area of land, water, and biota within the confines of a drainage divide. The total area above a given point of a water body that contributes flow to that point.

Watershed approach: A framework to guide watershed management that: (1) uses watershed assessments to determine existing and reference conditions; (2) incorporates assessment results into resource management planning; and (3) fosters collaboration with all landowners in the watershed. The framework considers both ground and surface water flow within a hydrologically defined geographical area.

Watershed assessment: An analysis and interpretation of the physical and landscape characteristics of a watershed using scientific principles to describe watershed conditions as they affect water quality and aquatic resources. Initial watershed assessments will be conducted using existing data, where available. Data gaps may suggest the collection of additional data.

Watershed condition: The state of the watershed based on physical and biogeochemical characteristics and processes (e.g., hydrologic, geomorphic, landscape, topographic, vegetative cover, and aquatic habitat), water flow characteristics and processes (e.g., volume and timing), and water quality characteristics and processes (e.g., chemical, physical, and biological), as it affects water quality and water resources.

[FR Doc. 00-26566 Filed 10-17-00; 8:45 am]

BILLING CODE 3410-11-P